DEPARTMENT OF COMMERCE

National Oceanic and Atmospheric Administration

Proposed Information Collection; Comment Request; Atlantic Highly Migratory Species Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 27, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dianne Stephan, (978) 281-9260 or Dianne.Stephan@noaa.gov.

SUPPLEMENTARY INFORMATION:

I. Abstract

Under the provisions of the Magnuson-Stevens Fishery Conservation and Management Act (16 U.S.C. 1801 et seq.), the National Oceanic and Atmospheric Administration's National Marine Fisheries Service (NMFS) is responsible for management of the Nation's marine fisheries. In addition, NMFS must comply with the United States' obligations under the Atlantic Tunas Convention Act of 1975 (16 U.S.C. 971 et seq.). NMFS issues permits to fishing vessels and dealers in order to collect the information necessary to comply with domestic and international obligations, secure compliance with regulations, and disseminate necessary information.

Current regulations at 50 CFR 635.4 require that vessels participating in commercial and recreational fisheries for Atlantic highly migratory species (HMS), and dealers purchasing Atlantic HMS from a vessel, obtain a Federal permit issued by NMFS. Current regulations at 50 CFR 300.182 require that individuals entering for consumption, exporting, or re-exporting consignments of bluefin tuna, southern bluefin tuna, swordfish, or frozen bigeye tuna obtain an HMS International Trade Permit (ITP) from NMFS. This action addresses the renewal of permit applications currently approved under Office of Management and Budget (OMB) Control No. 0648-0327, including vessel permits for Atlantic tunas, HMS charter/headboats, HMS angling, swordfish (directed, incidental, and hand gear), sharks (directed and incidental); dealer permits for the purchase of swordfish, sharks, and Atlantic tunas from vessels; and the HMS ITP.

II. Method of Collection

Applications for Atlantic Tunas, HMS Angling, and HMS Charter/Headboat Vessel Permits may be submitted online at http://www.hmspermits.gov, mailed, or faxed. All other applications including dealer permits and other vessel permits must be mailed.

III. Data

OMB Number: 0648-0327.

Form Number: None.

Type of Review: Regular submission.

Affected Public: Business or other for-profit organizations.

Estimated Number of Respondents: 40,810.

Estimated Time per Response: 5 minutes for the HMS ITP application, initial and renewal Shark and Swordfish Dealer Permit applications, and renewal Atlantic Tunas Dealer Permit application; 6 minutes for renewal application for the following vessel permits: Atlantic Tunas, HMS Charter/Headboat, and HMS Angling; 15 minutes for initial Atlantic Tunas Dealer Permit application; 20 minutes for initial and renewal shark and swordfish vessel permit applications; and 30 minutes for initial applications for the following vessel permits: Atlantic Tunas, HMS Charter/Headboat, and HMS Angling.

Estimated Total Annual Burden Hours: 8,571.

Estimated Total Annual Cost to Public: $1,239,374.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 23, 2008.
Gwellnar Banks,
Management Analyst, Office of the Chief Information Officer.

[FR Doc. E8-9213 Filed 4-25-08; 8:45 am]

BILLING CODE 3510-22-P